THE NATIONAL FOUNDATION FOR THE ARTS AND THE HUMANITIES

Submission for OMB Review, Comment Request, Proposed Collection: Let's Move! Museums & Gardens Program

AGENCY: Institute of Museum and Library Services, National Foundation for the Arts and the Humanities.

ACTION: Submission for OMB Review, Comment Request.

SUMMARY: The Institute of Museum and Library Services announces the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the CONTACT section below on or before May 1, 2015.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Christopher J. Reich, Institute of Museum and Library Services, 1800 M Street NW., 9th Floor, Washington, DC 20036. Telephone: (202) 653-4685. Email: creich@imls.gov or by teletype (TTY/TDD) for persons with hearing difficulty at (202) 653-4614.

SUPPLEMENTARY INFORMATION: The Institute of Museum and Library Services is the primary source of federal support for the Nation's 123,000 libraries and 35,000 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

Abstract: The purpose of this collection is to support a program to provide a targeted public health message in museums and gardens. Using the registration form for Let's Move! Museums & Gardens program (previously known as Let's Move Museums, Let's Move Gardens), IMLS will collect information about participant museums' exhibits, programs, and food service operations that are targeted at fighting childhood obesity. The information will be used to confirm program participation requirements and to share best practices in public health programs.

Current Actions: This notice proposes clearance of the Let's Move! Museums & Gardens registration form. The 60-day notice for the Let's Move! Museums & Gardens information collection was published in the Federal Register on December 5, 2014, (FR vol. 79, No. 234, pgs. 72214-72215). No comments were received.

Agency: Institute of Museum and Library Services.

Title: Let's Move! Museums & Gardens.

OMB Number: 3137-0084.

Frequency: Annual.

Affected Public: Museums, state, local, tribal government and not-for-profit institutions.

Number of Respondents: 50.

Estimated Time per Respondent: 0.17 hours.

Total Annual Costs to Respondents: $164.

Total Annualized to Federal Government: $4,615.

Contact: Comments should be sent to Office of Information and Regulatory Affairs, Attn.: OMB Desk Officer for Education, Office of Management and Budget, Room 10235, Washington, DC 20503, (202) 395-7316.

Dated: March 30, 2015.
Kim A. Miller,
Management Analyst, Office of Planning, Research, and Evaluation.

[FR Doc. 2015-07611 Filed 4-1-15; 8:45 am]

BILLING CODE CODE 7036-01-P